DEPARTMENT OF COMMERCE

International Trade Administration

[A-351-602, A-588-602, A-583-605, A-549-807, A-570-814]

Carbon Steel Butt-Weld Pipe Fittings From Brazil, Japan, Taiwan, Thailand, and the People's Republic of China: Final Results of the Expedited Sunset Reviews of the Antidumping Duty Orders

AGENCY: Enforcement and Compliance, International Trade Administration, Department of Commerce.

ACTION: Notice.

SUMMARY: As a result of these sunset reviews, the Department of Commerce (the Department) finds that revocation of the antidumping duty orders on carbon butt-weld pipe fittings (BWPF) from Brazil, Japan, Taiwan, Thailand, and the People's Republic of China (PRC) would be likely to lead to continuation or recurrence of dumping at the levels indicated in the “Final Results of Sunset Reviews” section of this notice.

DATES: Effective Date: July 7, 2016.

FOR FURTHER INFORMATION CONTACT: Matthew Renkey, AD/CVD Operations, Office V, Enforcement and Compliance, International Trade Administration, U.S. Department of Commerce, 14th Street and Constitution Avenue NW., Washington, DC 20230; telephone: (202) 482-2312.

Background

On March 1, 2016, the Department published the notice of initiation of the third sunset reviews of the antidumping duty orders on BWPF from Brazil, Japan, Taiwan, Thailand, and the PRC, pursuant to section 751(c) of the Tariff Act of 1930, as amended (the Act).¹ On March 7, 2015, the Department received a Notice of Intent to Participate in these reviews from Tube Forgings of America, Inc. (TFA), Mills Iron Works, Inc. (MIW), and Hackney Ladish, Inc. (a subsidiary of Precision Castparts Corp.) (HL), domestic interested parties, within the deadline specified in 19 CFR 351.218(d)(1)(i). On March 9, 2015, the Department also received a Notice of Intent to Participate in these reviews from Weldbend Corporation (Weldbend), a domestic interested party, within the deadline specified in 19 CFR 351.218(d)(1)(i). TFA, MIW, HL, and Weldbend all claimed interested party status under section 771(9)(C) of the Act, as manufacturers of a domestic like product in the United States.

¹ See Initiation of Five-Year (“Sunset”) Reviews, 81 FR 10578 (March 1, 2016).

On March 31, 2016, we received complete substantive responses for each review from the domestic interested parties within the 30-day deadline specified in 19 CFR 351.218(d)(3)(i). We received no substantive responses from respondent interested parties with respect to any of the orders covered by these sunset reviews, nor was a hearing requested. On May 9, 2016, pursuant to 19 CFR 351.309(e), TFA, MIW, and HL filed comments on the adequacy of responses in these sunset reviews. Pursuant to section 751(c)(3)(B) of the Act and 19 CFR 351.218(e)(1)(ii)(C)(2), the Department is conducting expedited (120-day) sunset reviews of these orders.

Scope of the Orders

The merchandise covered by the orders consists of certain carbon steel butt-weld type fittings, other than couplings, under 14 inches in diameter, whether finished or unfinished. These imports are currently classified under subheading 7307.93.30 of the Harmonized Tariff Schedule of the United States (HTSUS). The HTSUS subheading is provided for convenience and customs purposes. The written product description remains dispositive.²

² A full description of the scope of the orders is contained in the memorandum to Paul Piquado, Assistant Secretary for Enforcement and Compliance, from Christian Marsh, Deputy Assistant Secretary for Antidumping and Countervailing Duty Operations, “Issues and Decision Memorandum for the Expedited Sunset Reviews of the Antidumping Duty Orders on Carbon Steel Butt-Weld Pipe Fittings from Brazil, Japan, Taiwan, Thailand, and the People's Republic of China” (Issues and Decision Memorandum), dated concurrently with these results and hereby adopted by this notice. The scope language varies slightly amongst the countries due to the fact the investigations and subsequent orders for the PRC and Thailand occurred after the investigations for the other three countries. Additionally, the scope language for Taiwan includes a reference to a scope decision.

Analysis of Comments Received

All issues raised in these reviews, including the likelihood of continuation or recurrence of dumping in the event of revocation and the magnitude of the margins likely to prevail if the orders were revoked, are addressed in the accompanying Issues and Decision Memorandum. The Issues and Decision Memorandum is a public document and is on file electronically via Enforcement and Compliance's Antidumping and Countervailing Duty Centralized Electronic Service System (ACCESS). ACCESS is available to registered users at http://access.trade.gov, and to all parties in the Central Records Unit, room B8024 of the main Department of Commerce building. In addition, a complete version of the Issues and Decision Memorandum can be accessed directly on the Internet at http://enforcement.trade.gov/frn/. The signed Issues and Decision Memorandum and the electronic version of the Issues and Decision Memorandum are identical in content.

Final Results of Sunset Reviews

Pursuant to sections 751(c)(1) and 752(c)(1), (2) and (3) of the Act, we determine that revocation of the antidumping duty orders on BWPF from Brazil, Japan, Taiwan, Thailand, and the PRC would be likely to lead to continuation or recurrence of dumping up to the following weighted-average margin percentages:

Country | Weighted- average margin (percent)
Brazil | 52.25
Japan | 65.81
Taiwan | 87.30
Thailand | 52.60
The PRC | 182.90

Notification to Interested Parties

This notice serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 777(i)(1) of the Act and 19 CFR 351.218.

Dated: June 28, 2016.
Paul Piquado,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins Likely To Prevail

VII. Final Results of Sunset Reviews

VIII. Recommendation

[FR Doc. 2016-16059 Filed 7-6-16; 8:45 am]

BILLING CODE 3510-DS-P